DEPARTMENT OF COMMERCE

International Trade Administration

[A-560-811; A-455-803; A-823-809; A-822-804, A-570-860, A-580-844, A-449-804, A-841-804]

Antidumping Duty Orders: Steel Concrete Reinforcing Bars From Belarus, Indonesia, Latvia, Moldova, People's Republic of China, Poland, Republic of Korea and Ukraine

AGENCY: Import Administration, International Trade Administration, Department of Commerce.

ACTION: Notice of antidumping duty orders.

EFFECTIVE DATE: September 7, 2001.

FOR FURTHER INFORMATION CONTACT: Alexander Amdur (Belarus) at (202) 482-5346, Maisha Cryor (Indonesia) at (202) 482-5831, Christopher Smith (Latvia and Ukraine) at (202) 482-1442, Michele Mire (Moldova) at (202) 482-4711, Constance Handley (People's Republic of China) at (202) 482-0631, Chris Riker (Poland) at (202) 482-0186, Mark Manning (Republic of Korea) at (202) 482-3936, AD/CVD Enforcement, Group II, Import Administration, International Trade Administration, U.S. Department of Commerce, 14th Street and Constitution Avenue, NW., Washington, DC 20230.

SUPPLEMENTARY INFORMATION:

Applicable Statute and Regulations

Unless otherwise indicated, all citations to the Tariff Act of 1930, as amended (the Act) are references to the provisions effective January 1, 1995, the effective date of the amendments made to the Act by the Uruguay Round Agreements Act (URAA). In addition, unless otherwise indicated, all references to the Department of Commerce's (the Department's) regulations are to 19 CFR part 351 (2001).

Scope of Orders

For purposes of these orders, the product covered is all steel concrete reinforcing bars (rebar) sold in straight lengths, currently classifiable in the Harmonized Tariff Schedule of the United States (HTSUS) under item number 7214.20.00 or any other tariff item number. Specifically excluded are plain rounds (i.e., non-deformed or smooth bars) and rebar that has been further processed through bending or coating. HTSUS subheadings are provided for convenience and Customs purposes. The written description of the scope of this proceeding is dispositive.

Antidumping Duty Orders

In accordance with section 735(a) of the Act, the Department made its final determinations that rebar from Belarus, Indonesia, Latvia, Moldova, People's Republic of China (PRC), Poland, Republic of Korea (Korea) and Ukraine is being sold at less-than-fair-value (LTFV) (66 FR 18752; 66 FR 33522, 33531). On May 25, 2001, the U.S. International Trade Commission (the ITC) notified the Department of its final determination, pursuant to section 735(b)(1)(A)(i) of the Act, that a regional industry in the United States is materially injured by reason of less than fair value (LTFV) imports of subject merchandise from Indonesia, Poland, and Ukraine. On July 23, 2001, the ITC notified the Department of its final determination, pursuant to section 735(b)(1)(A)(i) of the Act, that a regional industry in the United States is materially injured by reason of LTFV imports of subject merchandise from Belarus, Korea, Latvia, and Moldova, and that a regional industry in the United States is threatened with material injury by reason of LTFV imports of subject merchandise from the PRC.

In addition, the ITC notified the Department of its final determination that critical circumstances do not exist with respect to imports of subject merchandise from all producers and exporters in Poland, the PRC, Korea and Ukraine. Therefore, we will instruct Customs to lift suspension and to release any bond or other security, and refund any cash deposit made, to secure the payment of antidumping duties with respect to entries of the merchandise entered, or withdrawn from warehouse, for consumption prior to the date of publication of the Preliminary Determinations in the Federal Register (66 FR 8339, 66 FR 8343, 66 FR 8348).

In accordance with section 736(a)(1) of the Act, the Department will direct Customs officers to assess, upon further advice by the Department, antidumping duties equal to the amount by which the normal value of the merchandise exceeds the U.S. price of the merchandise for all relevant entries of rebar from Belarus, Indonesia, Latvia, Moldova, the PRC, Poland, Korea and Ukraine. These antidumping duties will be assessed on all unliquidated entries of rebar from Belarus, Indonesia, Latvia, Moldova, Poland, Korea and Ukraine entered, or withdrawn from warehouse, for consumption on or after January 30, 2001, the date on which the Department published its notice of preliminary determinations for those countries in the Federal Register (66 FR 8323, 66 FR 8329, 66 FR 8333, 66 FR 8339, 66 FR 8343, 66 FR 8348). Pursuant to 736(b)(2) of the Act, the effective date of assessment of antidumping duties on all unliquidated entries of rebar from the PRC will be July 30, 2001, which is the date of the publication of the ITC's final injury determination with respect to the PRC. Therefore, we will instruct Customs to lift suspension and to release any bond or other security, and refund any cash deposit made, to secure the payment of antidumping duties with respect to entries of the merchandise entered, or withdrawn from warehouse, for consumption before that date. Customs officers must require, at the same time as importers would normally deposit estimated duties on this merchandise, a cash deposit equal to the estimated weighted-average antidumping duty margins as noted below. The “All Others” rates apply to all exporters in Indonesia, Latvia, Poland and Korea of subject rebar not specifically listed. The weighted-average dumping margins are as follows:

Manufacturer/exporter | Margin (percent)
Indonesia:
Sakti | 71.01
Bhirma | 71.01
Krakatau | 71.01
Perdana | 71.01
Hanil | 71.01
Pulogadung | 71.01
Tunggal | 71.01
Master Steel | 71.01
All others | 60.46
Poland:
Stalexport | 52.07
All others | 47.13
Ukraine: Ukraine-Wide Rate | 41.69
Belarus: Belarus-Wide Rate | 114.53
People's Republic of China
Laiwu Steel Group | 133.00
PRC-Wide Rate | 133.00
Republic of Korea
Dongkuk Steel Mill Co., Ltd./Korea Iron & Steel Co., Ltd. | 22.89
Hambo Iron & Steel Co., Ltd. | 102.28
All others | 22.89
Latvia
Liepajas Metalurgs | 17.21
All others | 17.21
Moldova: Moldova-Wide Rate | 232.86

This notice constitutes the antidumping duty orders with respect to rebar from Belarus, Indonesia, Latvia, Moldova, the PRC, Poland, Korea and Ukraine. Interested parties may contact the Department's Central Records Unit, room B-099 of the main Commerce building, for copies of an updated list of antidumping duty orders currently in effect.

These orders are published in accordance with section 736(a) of the Act of 1930, as amended.

Dated: August 31, 2001.
Bernard T. Carreau,
Acting Assistant Secretary for Import Administration.

[FR Doc. 01-22558 Filed 9-6-01; 8:45 am]

BILLING CODE 3510-DS-P